DEPARTMENT OF LABOR

Employment and Training Administration

[TA-W-62,920]

Lanxess Sybron Chemicals, Inc., a Subsidiary of Lanxess Corporation, Including On-Site Contract Workers from Aerotek, Birmingham, NJ; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on March 18, 2008, applicable to workers of Lanxess Sybron Chemicals, Inc., a subsidiary of Lanxess Corporation, Birmingham, New Jersey. The notice was published in the Federal Register on April 24, 2008 (73 FR 22169).

At the request of the State agency, the Department reviewed the certification for workers of the subject firm. The workers are engaged in the production of ion exchange resins for a variety of industrial applications.

New information shows that employees of AeroTek were working on-site at the Birmingham, New Jersey location of Lanxess Sybron Chemicals, Inc., a subsidiary of Lanxess Corporation. The Department has determined that the AeroTek workers were sufficiently under the control of the subject firm to be considered contract/leased workers.

Based on these findings, the Department is amending this certification to include temporary workers of AeroTek working on-site at the Birmingham, New Jersey location of the subject firm.

The intent of the Department's certification is to include all workers employed at Lanxess Sybron Chemicals, Inc., a subsidiary of Lanxess Corporation, Birmingham, New Jersey who were adversely affected by increased imports.

The amended notice applicable to TA-W-62,920 is hereby issued as follows:

”All workers of Lanxess Sybron Chemicals, Incorporated, a subsidiary of Lanxess Corporation, including on-site contract workers from AeroTek, Birmingham, New Jersey, who became totally or partially separated from employment on or after February 27, 2007, through March 18, 2010, are eligible to apply for adjustment assistance under Section 223 of the Trade Act of 1974, and are also eligible to apply for alternative trade adjustment assistance under Section 246 of the Trade Act of 1974.”

Signed at Washington, DC this 28th day of April 2008.
Linda G. Poole,
Certifying Officer, Division of Trade Adjustment Assistance.

[FR Doc. E8-10033 Filed 5-6-08; 8:45 am]

BILLING CODE 4510-FN-P